MILLENNIUM CHALLENGE CORPORATION

[MCC FR 08-11]

Report on Countries That Are Candidates for Millennium Challenge Account Eligibility in Fiscal Year 2009 and Countries That Would Be Candidates but for Legal Prohibitions

AGENCY: Millennium Challenge Corporation.

ACTION: Notice.

SUMMARY: Section 608(d) of the Millennium Challenge Act of 2003 requires the Millennium Challenge Corporation to publish a report that identifies countries that are “candidate countries” for Millennium Challenge Account assistance during FY 2009. The report is set forth in full below.

Dated: September 5, 2008.
William G. Anderson, Jr.
Vice President and General Counsel, Millennium Challenge Corporation.

Report on Countries That Are Candidates for Millennium Challenge Account Eligibility for Fiscal Year 2009 and Countries That Would Be Candidates but for Legal Prohibitions

This report to Congress is provided in accordance with Section 608(a) of the Millennium Challenge Act of 2003, 22 U.S.C. 7701, 7707(a) (Act).

The Act authorizes the provision of Millennium Challenge Account (MCA) assistance to countries that enter into Compacts with the United States to support policies and programs that advance the progress of such countries achieving lasting economic growth and poverty reduction. The Act requires Millennium Challenge Corporation (MCC) to take a number of steps in determining the countries that will be eligible for MCA assistance for Fiscal Year (FY) 2009 based on a country's demonstrated commitment to (i) just and democratic governance, (ii) economic freedom and investing in their people, and (iii) the opportunity to reduce poverty and generate economic growth in the country. These steps include the submission of reports to the congressional committees specified in the Act and the publication of notices in the Federal Register that identify:

1. The countries that are “candidate countries” for MCA assistance for FY 2009 based on their per-capita income levels and their eligibility to receive assistance under U.S. law and countries that would be candidate countries but for specified legal prohibitions on assistance (Section 608(a) of the Act);

2. The criteria and methodology that the MCC Board of Directors (Board) will use to measure and evaluate the relative policy performance of the “candidate countries” consistent with the requirements of subsections (a) and (b) of Section 607 of the Act in order to select “MCA eligible countries” from among the “candidate countries” (Section 608(b) of the Act); and

3. The list of countries determined by the Board to be “MCA eligible countries” for FY 2009, with a justification for such eligibility determination and selection for compact negotiation, including which of the MCA eligible countries the Board will seek to enter into MCA Compacts (Section 608(d) of the Act).

This report is the first of three required reports listed above.

Candidate Countries for FY 2009

The Act requires the identification of all countries that are candidates for MCA assistance for FY 2009 and the identification of all countries that would be candidate countries but for specified legal prohibitions on assistance. Sections 606(a) and (b) of the Act provide that for FY 2009 a country shall be a candidate for the MCA if it:

• Meets one of the following two income level tests:

○ Has a per capita income equal to or less than the historical ceiling of the International Development Association eligibility for the fiscal year involved (or $1,785 gross national income (GNI) per capita for FY 2009) (the “low income category”); or

○ Is classified as a lower middle income country in the then most recent edition of the World Development Report for Reconstruction and Development published by the International Bank for Reconstruction and Development and has an income greater than the historical ceiling for International Development Association eligibility for the fiscal year involved (or $1,786 to $3,705 GNI per capita for FY 2009) (the “lower middle income category”); and

○ Is not ineligible to receive U.S. economic assistance under Part I of the Foreign Assistance Act of 1961, as amended (the “Foreign Assistance Act”), by reason of the application of the Foreign Assistance Act or any other provision of law.

Pursuant to Section 606(c) of the Act, the Board has identified the following countries as candidate countries under the Act for FY 2009. In so doing, the Board has anticipated that prohibitions against assistance as applied to countries in the Department of State, Foreign Operations, and Related Programs Appropriations Act, 2008 (Div. J, Pub. L. 110-161 (“FY 2008 SFOAA”)), will again apply for FY 2009, even though the Department of State, Foreign Operations, and Related Programs Appropriations Act for FY 2009 has not yet been enacted and certain findings under other statutes have not yet been made. As noted below, MCC will provide any required updates on subsequent changes in applicable legislation or other circumstances that affect the status of any country as a candidate country for FY 2009.

Candidate Countries: Low Income Category

1. Afghanistan; 2. Bangladesh; 3. Benin; 4. Bhutan; 5. Bolivia; 6. Burkina Faso; 7. Burundi; 8. Cambodia; 9. Cameroon; 10. Central African Republic; 11. Chad; 12. Comoros; 13. Congo, Dem. Rep.; 14. Congo, Rep.; 15. Djibouti; 16. Egypt; 17. Eritrea; 18. Ethiopia; 19. Gambia; 20. Ghana; 21. Guinea; 22. Guinea-Bissau; 23. Guyana; 24. Haiti; 25. Honduras; 26. India; 27. Indonesia; 28. Kenya; 29. Kiribati; 30. Kosovo; 31. Kyrgyz Republic; 32. Laos; 33. Lesotho; 34. Liberia; 35. Madagascar; 36. Malawi; 37. Mali; 38. Moldova; 39. Mongolia; 40. Mozambique; 41. Nepal; 42. Nicaragua; 43. Niger; 44. Nigeria; 45. Pakistan; 46. Papua New Guinea; 47. Paraguay; 48. Philippines; 49. Rwanda; 50. Sao Tome and Principe; 51. Senegal; 52. Sierra Leone; 53. Solomon Islands; 54. Somalia; 55. Sri Lanka; 56. Tajikistan; 57. Tanzania; 58. Timor-Leste; 59. Togo; 60. Turkmenistan; 61. Uganda; 62. Vietnam; 63. Yemen; 64. Zambia.

Candidate Countries: Lower Middle Income Category

1. Albania;

2. Algeria;

3. Angola;

4. Armenia;

5. Azerbaijan;

6. Bosnia and Herzegovina;

7. Cape Verde;

8. Colombia;

9. Dominican Republic;

10. Ecuador;

11. El Salvador;

12. Georgia;

13. Guatemala;

14. Jordan;

15. Macedonia;

16. Maldives;

17. Marshall Islands;

18. Micronesia, Fed. Sts.;

19. Morocco;

20. Namibia;

21. Peru;

22. Samoa;

23. Swaziland;

24. Thailand;

25. Tonga;

26. Tunisia;

27. Tuvalu;

28. Ukraine;

29. Vanuatu.

Countries That Would Be Candidate Countries but for Legal Prohibitions That Prohibit Assistance

Countries that would be considered candidate countries for FY 2009, but are ineligible to receive United States economic assistance under Part I of the Foreign Assistance Act by reason of the application of any provision of the Foreign Assistance Act or any other provision of law are listed below. As noted above, this list is based on legal prohibitions against economic assistance that apply for FY 2008 and that are anticipated to apply again for FY 2009.

Prohibited Countries: Low Income Category

1. Burma is subject to numeous restrictions, including but not limited to Section 570 of the FY 1997 Foreign Operations, Export Financing, and Related Programs Appropriations Act (Pub. L. 104-208) which prohibits assistance to the government of Burma until it makes progress on improving human rights and implementing democratic government, and due to its status as a major drug-transit or major illicit drug producing country for 2008 (Presidential Determination No. 2007-33 (9/14/2007)) and a Tier III country under the Trafficking Victims Protection Act (Presidential Determination No. 2008-4 (10/18/2007)).

2. The Cote d'Ivoire is subject to Section 608 of the FY 2008 SFOAA, which prohibits assistance to the government of a country whose duly elected head of government is deposed by military coup or decree.

3. Iraq is subject to Section 699K of the FY 2008 SFOAA, which prohibits the use of FY 2008 SFOAA funds for assistance to Iraq.

4. Mauritania is subject to section 608 of the FY 2008 SFOAA, which prohibits assistance to the government of a country whose duly elected head of government is deposed by military coup or decree.

5. North Korea is subject to numerous restrictions, including but not limited to section 620A of the Foreign Assistance Act which prohibits assistance to governments supporting international terrorism and Section 607 of the FY 2008 SFOAA.

6. Sudan is subject to numerous restrictions, including but not limited to Section 620A of the Foreign Assistance Act which prohibits assistance to governments supporting international terrorism, Section 612 of the FY 2008 SFOAA, and Section 620(q) of the Foreign Assistance Act, both of which prohibit assistance to countries in default in payment to the U.S. in certain circumstances, Section 608 of the FY 2008 SFOAA, which prohibits assistance to a country whose duly elected head of government being deposed by military coup or decree, and Section 666 of the FY 2008 SFOAA.

7. Syria is subject to numerous restrictions, including but not limited to 620A of the Foreign Assistance Act which prohibits assistance to governments supporting international terrorism, Section 607 of the FY 2008 SFOAA which prohibits direct assistance, and section 612 of the FY 2008 SFOAA and Section 620(q) of the Foreign Assistance Act, both of which prohibit assistance to countries in default in payment to the U.S. in certain circumstances.

8. Uzbekistan's central government is subject to Section 685 of the FY 2008 SFOAA, which requires that funds appropriated for assistance to the central government of Uzbekistan may be made available only if the Secretary of State determines and reports to the Congress that the government is making substantial and continuing progress in meeting its commitments under a framework agreement with the United States.

9. Zimbabwe is subject to Section 620(q) of the Foreign Assistance Act and Section 612 of the FY 2008 SFOAA, which prohibit assistance to countries in default in payment to the United States in certain circumstances.

Prohibited Countries: Lower Middle Income Category

1. China is not eligible to receive economic assistance from the United States, absent special authority, because of concerns relative to China's record on human rights.

2. Iran is subject to numerous restrictions, including but not limited to Section 620A of the Foreign Assistance Act which prohibits assistance to governments supporting international terrorism and Section 607 of the FY 2008 SFOAA which prohibits direct assistance.

Countries identified above as candidate countries, as well as countries that would be considered candidate countries but for the applicability of legal provisions that prohibit U.S. economic assistance, may be the subject of future statutory restrictions or determinations, or changed country circumstances, that affect their legal eligibility for assistance under Part I of the Foreign Assistance Act by reason of application of Foreign Assistance Act or any other provision of law for FY 2009. MCC will include any required updates on such statutory eligibility that affect countries' identification as candidate countries for FY 2009, at such time as it publishes the notices required by Sections 608(b) and 608(d) of the Act or at other appropriate times. Any such updates with regard to the legal eligibility or ineligibility of particular countries identified in this report will not affect the date on which the Board is authorized to determine eligible countries from among candidate countries which, in accordance with Section 608(a) of the Act, shall be no sooner than 90 days from the date of publication of this report.

[FR Doc. E8-21272 Filed 9-10-08; 8:45 am]

BILLING CODE 9211-03-P